DEPARTMENT OF COMMERCE

Bureau of Export Administration

15 CFR Parts 740 and 748

[Docket No. 010112014-1014-01]

RIN 0694-AC41

Implementation of Presidential Announcement of January 10, 2001: Revisions to License Exception CTP; Corrections

AGENCY: Bureau of Export Administration, Commerce.

ACTION: Final rule.

SUMMARY: On January 19, 2001 the Bureau of Export Administration (BXA) published a final rule revising License Exception CTP. This rule corrects inadvertent citation references in the January 19 rule.

DATES: This rule is effective January 19, 2001.

FOR FURTHER INFORMATION CONTACT: Sharron Cook in the Office of Exporter Services, Bureau of Export Administration, at (202) 482-2440.

SUPPLEMENTARY INFORMATION:

Rulemaking Requirements

1. This final rule has been determined to be not significant for purposes of Executive Order 12866.

2. Notwithstanding any other provision of law, no person is required to respond to nor be subject to a penalty for failure to comply with a collection of information subject to the requirements of the Paperwork Reduction Act unless that collection of information displays a current valid OMB Control Number. This regulation involves collections previously approved by the Office of Management and Budget under control numbers 0694-0088, “Multi-Purpose Application,” which carries a burden hour estimate of 45 minutes per manual submission and 40 minutes per electronic submission. Miscellaneous and recordkeeping activities account for 12 minutes per submission. Information is also collected under OMB control number 0694-0107, “National Defense Authorization Act,” Advance Notifications and Post-Shipment Verification Reports, which carries a burden hour estimate of 15 minutes per report. This rule also involves collections of information under OMB control number 0694-0073, “Export Controls of High Performance Computers” and OMB control number 0694-0093, “Import Certificates and End-User Certificates.”

3. This rule does not contain policies with Federalism implications as that term is defined in Executive Order 13132.

4. The provisions of the Administrative Procedure Act requiring notice of proposed rule making, the opportunity for public participation, and a delay in effective date, are inapplicable because this regulation involves a military or foreign affairs function of the United States (see 5 U.S.C. 553(a)(1)). Further, no other law requires that a notice of proposed rule making and an opportunity for public comment be given for this rule. Because a notice of proposed rule making and opportunities for public comment are not required to be given for this rule by 5 U.S.C. 553, or by any other law, the analytical requirements of the Regulatory Flexibility Act, 5 U.S.C. 601 et seq., are inapplicable.

Therefore, this regulation is issued in final form. Although there is no formal comment period, public comments on this regulation are welcome on a continuing basis. Comments should be submitted to Office of Exporter Services, Bureau of Export Administration, Department of Commerce, P.O. Box 273, Washington, DC 20044.

List of Subjects in 15 CFR Parts 740 and 748

Administrative practice and procedure, Exports, Foreign trade, Reporting and record keeping requirements.

Accordingly, parts 740 and 748 of the Export Administration Regulations (15 CFR Parts 730-799) are amended as follows:

1. The authority citation for 15 CFR Part 740 is revised to read as follows:

Authority: 50 U.S.C. app. 2401 et seq.; Pub. L. No. 106-508; 50 U.S.C. 1701 et seq.; E.O. 12924, 59 FR 43437, 3 CFR, 1994 Comp., p. 917; E.O. 13026, 61 FR 58767, 3 CFR, 1996 Comp., p. 228; Notice of August 3, 2000 (65 FR 48347, August 8, 2000).

2. The authority citation for part 748 is revised to read as follows:

Authority: 50 U.S.C. app. 2401 et seq.; Pub. L. No. 106-508; 50 U.S.C. 1701 et seq.; E.O. 12924, 59 FR 43437, 3 CFR, 1994 Comp., p. 917; E.O. 13026, 61 FR 58767, 3 CFR, 1996 Comp., p. 228; Notice of August 3, 2000 (65 FR 48347, August 8, 2000).

PART 740—CORRECTED

3. Part 740 is corrected by revising the phrase “paragraph (d)(2)” to read “paragraphs (d)(5)(i)(A) or (d)(5)(i)(B)” in paragraph 740.7(d)(4).

PART 748—CORRECTED

4. Section 748.10 is corrected by revising the citation reference “§ 740.7(d)(2)” to read “§ 740.7(d)(5)(i)(A) or § 740.7(d)(5)(i)(B)” in paragraph (b)(3)(i).

Dated: January 17, 2001.
Eileen M. Albanese,
Director, Office of Exporter Services, Export Administration.

[FR Doc. 01-1863 Filed 1-19-01; 8:45 am]

BILLING CODE 3510-33-P